DEPARTMENT OF AGRICULTURE

Rural Business-Cooperative Service

Rural Housing Service

Rural Utilities Service

[Docket No. RBS-26-BUSINESS-0034]

Notice of Funding Opportunities for the Strategic Economic and Community Development Program for FY 2026

AGENCY: Rural Business-Cooperative Service, Rural Housing Service, and Rural Utilities Service, USDA.

ACTION: Notice.

SUMMARY: The Under Secretary for Rural Development (RD or Agency) is seeking applications for the Strategic Economic and Community Development (SECD) priority, as reauthorized by Section 6401 of the Agriculture Improvement Act of 2018 (2018 Farm Bill) for projects that support multi-jurisdictional and multi-sectoral strategic community investment plans. In Fiscal Year (FY) 2026, the covered RD programs will implement SECD by reserving loan and grant funds from the appropriations of the programs covered by this funding priority. This notice describes the requirements by which RD will consider projects eligible for covered programs' reserved funds and information needed to submit an application. Information on FY 2026 funding amounts can be found under SUPPLEMENTARY INFORMATION, section B. Federal Award Information of this notice.

DATES: Each of the participating covered programs has a different established deadline for receipt of applications. Please refer to the RD website or the appropriate covered program's Federal Register Notice for application deadline information.

ADDRESSES: SECD applications, except for the covered Community Connect Grant Program and Water and Waste Disposal Loans and Grants Programs, must be submitted electronically to the USDA RD Office servicing the area where the project is located. Community Connect Grant Program applicants must submit SECD applications electronically at: https://www.rd.usda.gov/community-connect. Applications for Water and Waste Disposal Loans and Grants Programs must be submitted electronically at https://rdapply.sc.egov.usda.gov/. For lenders assigned an OneRD Loan Guarantee Initiative Customer Relationship Manager (CRM), SECD applications must be submitted to their assigned CRM.

All applicants are responsible for any expenses incurred in preparing and submitting applications.

To apply for SECD funding in FY 2026, applicants must follow the instructions as published in this notice:

• All applicants must submit the Form RD 1980-88, “Strategic Economic and Community Development (Section 6401)” located at https://forms.sc.egov.usda.gov/eForms/, with their program application to the appropriate covered program.

• SECD applications, except for the Community Connect Grant Program and Water and Waste Disposal Loans and Grant Program SECD applications, must be submitted to the USDA RD Office servicing the area where the project is located. Each SECD application must be accompanied by a covered program application. USDA RD State Offices will assist with covered program and SECD applications. A list of the USDA RD State Offices can be found at: https://www.rd.usda.gov/browse-state. Business Programs, Community Programs and Water and Waste Disposal Programs staff can be located and contacted in USDA RD State Offices found at the link provided.

• Community Connect Grant Program applicants must submit SECD applications electronically at: https://www.rd.usda.gov/community-connect.

• Water and Waste Disposal Loans and Grant Program applicants must submit SECD applications electronically at https://rdapply.sc.egov.usda.gov/.

• For lenders assigned a OneRD Loan Guarantee Initiative Customer Relationship Manager (CRM), SECD applications must be submitted to their assigned CRM.

FOR FURTHER INFORMATION CONTACT: For more information, please contact your respective RD State Office listed here: https://www.rd.usda.gov/browse-state.

All other inquiries may be submitted to gregory.dale@usda.gov.

A checklist of all required application information for regional planning priority can be found at: https://www.rd.usda.gov/programs-services/business-programs/strategic-economic-and-community-development.

SUPPLEMENTARY INFORMATION:

Overview

Federal Awarding Agency Name: Rural Business-Cooperative Service, Rural Housing Service, Rural Utilities Service.

Funding Opportunity Title: Strategic Economic and Community Development.

Announcement Type: Notice of Funding Opportunity.

The following covered programs with their Assistance Listing (AL) numbers are listed as follows:

• Community Facilities (CF) Loans; see 7 CFR part 1942, subpart A; AL: 10.766.

• Community Facilities Grants; see 7 CFR part 3570, subpart B; AL: 10.766.

• Community Facilities Guaranteed Loans; see 7 CFR part 5001; AL: 10.766.

• Water and Waste Disposal Program Guaranteed Loans; see 7 CFR part 5001; AL: 10.766.

• Water and Waste Disposal Loans and Grants; see 7 CFR part 1780; AL: 10.760.

• Rural Business Development Grants; see 7 CFR part 4280, subpart E; AL: 10.351.

• Community Connect Grants: see 7 CFR part 1739, subpart A; AL: 10.863.

Dates: See information provided in the DATES section of this notice.

A. Program Description

1. Purpose of the Program

SECD supports projects that promote and partially or completely implement strategic community investment plans. These plans use the unique strengths of rural communities to advance prosperity. USDA RD helps finance and/or fund these projects to build community prosperity by using community assets, identifying resources, convening partners, and leveraging Federal, state, local or private funding.

In FY 2026, the Agency plans to implement SECD through reserving funds from the covered programs' appropriations as provided in 7 CFR part 1980, subpart K. This notice provides requirements to applicants submitting applications for the covered programs' reserved funds and establishes the above-mentioned priority effective upon the publication of this notice.

2. Statutory and Regulatory Authority

These funds are made available under Section 379H of the Consolidated Farm and Rural Development Act, as amended (7 U.S.C. 2008v).

3. The Covered Programs

Section 379H of the Consolidated Farm and Rural Development Act, as amended (7 U.S.C. 2008v), authorizes any program under the Consolidated Farm and Rural Development Act (Pub. L. 87-128), as determined by the Secretary, to give priority to applications that support the implementation of multi-jurisdictional and multi-sectoral strategic community investment plans.

Accordingly, the Agency is giving priority to projects implementing strategic community investment plans in FY 2026 through the following RD programs:

• Community Facilities Loans; see 7 CFR part 1942, subpart A.

• Community Facilities Grants; see 7 CFR part 3570, subpart B.

• Community Facilities Guaranteed Loans; see 7 CFR part 5001.

• Water and Waste Disposal Programs Guaranteed Loans; see 7 CFR part 5001.

• Water and Waste Disposal Loans and Grants; see 7 CFR part 1780.

• Rural Business Development Grants; see 7 CFR part 4280, subpart E.

• Community Connect Grants, see 7 CFR part 1739.

4. Application of Awards

The Agency will review, evaluate, and score each application based on the criteria specified in 7 CFR 1980.1020, to award points for each program's competition for the SECD reserved funds.

B. Federal Award Information

Type of Awards: Guaranteed loans, direct loans and grants.

Fiscal Year Funds: FY 2026 appropriated funds.

Available Funds: The amount of reserved funds available for SECD projects is dependent on the amount of available appropriated funding provided to each of the covered programs during the fiscal year. Successful applications will be selected by the Agency for funding and subsequently awarded. The Agency advises that all interested parties bear the financial burden of preparing and submitting an application in response to this Notice.

For FY 2026 applications, the following table specifies the anticipated percentage of funds being reserved for the covered SECD programs:

Program | Anticipated percentage of funds reserved for SECD (percent)
Community Connect Grants | 10
Community Facilities Loans | 10
Community Facilities Grants | 5
Community Facilities Guaranteed Loans | 5
Water and Waste Disposal Guaranteed Loans | 10
Water and Waste Disposal Direct Loans | 5
Water and Waste Disposal Grants | 3
Rural Business Development Grants | 5

Award Amounts: Guaranteed loans, direct loans and grants will be awarded in amounts consistent with the requirements of each applicable covered program.

Anticipated Award Dates: Awards for SECD applications submitted to the covered programs in FY 2026 will be obligated on or before June 30, 2026, for Community Facilities (CF) and Water and Waste Disposal Loans and Grants; on or before July 31, 2026 for Rural Business Development Grant (RBDG); and on or before September 30, 2026, for Community Connect Grants. The Agency will return any reserved funds that are not obligated by the obligation deadline to each covered program's regular funding account for obligation of eligible projects in that program.

Performance Period: Performance period will vary by covered program.

Renewal or Supplemental Awards:

N/A.

Type of Assistance Instrument: Grants, direct loans, and loan guarantees.

C. Eligibility Information

1. Eligible Applicants

To be considered for SECD reserved funds, both the applicant and project must meet the eligibility requirements of the covered program. These requirements vary among the covered programs and applicants should refer to the regulations for those programs, which are referenced in Section A.3. of this notice.

The Agency supports community and regional planning through the SECD regulation without making any changes to the applicant eligibility requirements of the covered programs. The SECD regulation includes three criteria that a project must meet to be considered for the SECD reserve funding (see 7 CFR 1980.1010).

The first criterion, as noted above, is that the project meets the applicable eligibility requirements of the covered program for which the applicant is applying.

The second criterion is that the project is “carried out in a rural area” as defined in 7 CFR 1980.1005. As defined, this means either the entire project is physically located in a rural area, or all the beneficiaries of the service(s) provided through the project must either reside in or be located in a rural area. Note that the definition of “rural” varies among the covered programs and the SECD regulation (7 CFR part 1980, subpart K) does not change those definitions. Therefore, the applicable program regulations as outlined in Section A.2 of this notice should be reviewed as necessary.

The third criterion is that the project supports partial or complete implementation of a strategic community investment plan on a multi-jurisdictional and multi-sectoral basis as defined in 7 CFR 1980.1005.

To be considered for the reserved funds from covered programs in FY 2026, applicants must: (1) meet all requirements of the covered program; (2) meet all requirements in accordance with 7 CFR part 1980, subpart K (see 7 CFR 1980.1010); and (3) submit Form RD 1980-88 and the supporting documentation required in 7 CFR 1080.1015, in addition to their program application, which includes:

• Sufficient information to show that the project will be carried out in a rural area, as defined by the appropriate covered program; and

• Identification of any current or previous applications the applicant has submitted for funds from the covered programs.

2. Cost Sharing or Matching

All cost sharing, matching, and cost participation requirements of the applicable covered program apply to projects seeking SECD reserved funds.

3. Other

All other eligibility requirements (beyond those identified in Section C.1 of this notice) found in the covered programs' regulations applying to applicants, their projects, and the beneficiaries of those projects are unchanged by either this notice or the regulations for the SECD program (7 CFR part 1980, subpart K).

D. Application and Submission Information

1. Address To Request Application Package

Information on how to submit applications is provided in the ADDRESSES section of this notice.

2. Content and Form of Application Submission

Applicants must submit the Form RD 1980-88, “Strategic Economic and Community Development (Section 6401),” located at https://forms.sc.egov.usda.gov/eForms/, with their program application to the appropriate covered program.

3. System for Award Management (SAM) and Unique Entity Identifier (UEI)

(a) At the time of application, each applicant must have an active registration in the System for Award Management (SAM) before submitting its application in accordance with 2 CFR part 25 (https://www.ecfr.gov/current/title-2/subtitle-A/chapter-I/part-25). To register in SAM, entities will be required to obtain a Unique Entity Identifier (UEI). Instructions for obtaining the UEI are available at https://sam.gov/entity-registration.

(b) Applicant must maintain an active SAM registration, with current, accurate and complete information, at all times during which it has an active Federal award or an application under consideration by a federal awarding agency.

(c) Applicant must ensure they complete the Financial Assistance General Certifications and Representations in SAM.

(d) Applicant must provide a valid UEI in its application, unless determined exempt under 2 CFR 25.110 (https://www.ecfr.gov/current/title-2/subtitle-A/chapter-I/part-25/subpart-A/section-25.110).

(e) The Agency will not make an award until the applicant has complied with all SAM requirements including providing the UEI. If an applicant has not fully complied with the requirements by the time the Agency is ready to make an award, the Agency may determine that the applicant is not qualified to receive a federal award and use that determination as a basis for making a federal award to another applicant.

4. Application Submission Deadlines

Each of the participating covered programs has different established deadlines for receipt of applications. Please refer to the Agency website or the appropriate covered program's Federal Register Notice for application deadline information. The Agency will not solicit or consider new scoring or eligibility information that is submitted after the application deadline. The covered RD programs also reserve the right to ask applicants for clarifying information and additional verification of assertions in the application.

5. Intergovernmental Review

This Notice is not subject to Executive Order 12372, “Intergovernmental Review of Federal Programs.”

6. Funding Restrictions

All applicants are responsible for any expenses incurred in preparing and submitting applications.

7. Other Submission Requirements

(a) SECD applications must be submitted electronically to the USDA RD Office servicing the area where the project is located. RD State Offices can be found here: https://www.rd.usda.gov/browse-state.

(b) Water and Waste Disposal Loans and Grant Program applicants must submit SECD applications electronically at https://usdagcc.sharepoint.com/sites/rd_ic/SECD.

(c) For lenders assigned an OneRD Loan Guarantee Initiative Customer Relationship Manager (CRM), SECD applications must be submitted to their assigned CRM.

(d) Community Connect Grant Program applicants must submit SECD applications electronically at: https://reconnect-apply.rd.usda.gov.

E. Application Review Information

1. Criteria

All FY 2026 applications for covered programs will be reviewed, evaluated, and scored based on the covered program's scoring criteria. This notice does not affect that process. This notice only affects the scoring of SECD applications competing for a covered program's SECD reserve funds.

For applicants wishing to be considered for reserved SECD funds in FY 2026, the Agency will review, evaluate, and score each application based on the criteria specified in 7 CFR 1980.1020, to award points for each covered program's SECD reserved funds.

2. Review and Selection Process

The Agency will prioritize applications competing for a covered program's reserved funds based on the covered program's awarded points plus the SECD earned points to determine which projects receive reserved funds. SECD points awarded are added to the covered program's application score to elevate and prioritize projects for accessing reserved funds. The RD covered programs reserve the right to offer the applicant less than the funding requested.

F. Federal Award Administration Information

1. Federal Award Notices

The Agency will notify SECD applicants who receive funding in a manner consistent with award notifications for the covered program.

2. Administrative and National Policy Requirements

Any and all additional requirements of the applicable covered programs apply to projects receiving funding in response to this notice. Please see the regulations for the applicable covered program.

3. Reporting Requirements

Any and all post-award covered program reporting requirements apply to all projects receiving reserved funds in response to this notice.

G. Federal Awarding Agency Contact(s)

For general questions about this notice, please contact your respective Rural Development State Office listed at: https://www.rd.usda.gov/browse-state and other points of contact provided in the For Further Information Contact section of this notice.

H. Build America, Buy America

Funding to Non-Federal Entities. Awardees that are Non-Federal Entities, defined pursuant to 2 CFR 200.1 as any State, local government, Indian tribe, Institution of Higher Education, or nonprofit organization, shall be governed by the requirements of Section 70914 of the Build America, Buy America Act (BABAA) within the Infrastructure Investment and Jobs Act, Public Law 117-58. Any requests for waiver of these requirements must be submitted pursuant to USDA's guidance available online at https://www.usda.gov/ocfo/federal-financial-assistance-policy/USDABuyAmericaWaiver.

I. Other Information

Paperwork Reduction Act

In accordance with the Paperwork Reduction Act of 1995, the information collection requirements contained in 7 CFR part 1980, subpart K, have been approved by the Office of Management and Budget (OMB) under OMB Control Number 0570-0068.

National Environmental Policy Act

All recipients under this notice are subject to the requirements of 7 CFR part 1b.

Federal Funding Accountability and Transparency Act

All applicants, in accordance with 2 CFR part 25, must be registered in SAM and have a UEI number as stated in Section D.3 of this notice. All recipients of Federal financial assistance are required to report information about first-tier sub-awards and executive total compensation in accordance with 2 CFR part 170.

Civil Rights

All awards of Federal financial assistance made under this notice are subject to applicable civil rights laws, which may include Title VI of the Civil Rights Act of 1964, Section 504 of the Rehabilitation Act of 1973, the Age Discrimination Act of 1975, Title VIII of the Civil Rights Act of 1968, Title IX of the Education Amendments of 1973, and the Equal Credit Opportunity Act.

Equal Opportunity for Religious Organizations

(1) Faith-based organizations may apply for this award on the same basis as any other organization, as set forth at, and subject to the protections and requirements of, this part and any applicable constitutional and statutory requirements, including 42 U.S.C. 2000bb et seq. USDA will not, in the selection of recipients, discriminate for or against an organization on the basis of the organization's religious character, motives, or affiliation, or lack thereof, or on the basis of conduct that would not be considered grounds to favor or disfavor a similarly situated secular organization.

(2) A faith-based organization that participates in this program will retain its independence from the Government and may continue to carry out its mission consistent with religious freedom and conscience protections in Federal law. Religious accommodations may also be sought under many of these religious freedom and conscience protection laws.

(3) A faith-based organization may not use direct Federal financial assistance from USDA to support or engage in any explicitly religious activities except when consistent with the Establishment Clause of the First Amendment and any other applicable requirements. An organization receiving Federal financial assistance also may not, in providing services funded by USDA, or in their outreach activities related to such services, discriminate against a program beneficiary or prospective program beneficiary on the basis of religion, a religious belief, a refusal to hold a religious belief, or a refusal to attend or participate in a religious practice.

Nondiscrimination Statement

In accordance with Federal civil rights laws and USDA civil rights regulations and policies, the USDA, its Mission Areas, agencies, staff offices, employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the State or local Agency that administers the program or contact USDA through the Telecommunications Relay Service at 711 (voice and TTY). Additionally, program information may be made available in languages other than English.

To file a program discrimination complaint, complete the USDA Program Discrimination Complaint Form, AD-3027, found online at How to File a Program Discrimination Complaint (https://www.usda.gov/about-usda/general-information/staff-offices/office-assistant-secretary-civil-rights/how-file-program-discrimination-complaint) and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Mail Stop 9410, Washington, DC 20250-9410;

(2) Fax: (202) 690-7442; or

(3) Email: program.intake@usda.gov.

USDA is an equal opportunity provider, employer, and lender.

Anthony Priest,
Acting Chief of Staff, Rural Development.

[FR Doc. 2026-01934 Filed 1-30-26; 8:45 am]

BILLING CODE 3410-XY-P